DEPARTMENT OF TRANSPORTATION

Federal Aviation Administration

Eleventh Meeting, Special Committee 215 Aeronautical Mobile Satellite (Route) Services, Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The meeting will be held December 10, 2008, 9 a.m. to 5 p.m. December 11, 2008, 9 a.m. to 12 noon.

ADDRESSES: RTCA Headquarters, 1828 L Street, NW, Washington, DC 20036; USA, Tel: + 1 202 833-9339, Fax: + 1 202 833-9434, http://www.rtca.org

FOR FURTHER INFORMATION CONTACT: RTCA Secretariat, 1828 L Street, NW, Suite 805, Washington, DC 20036; telephone (202) 833-9339; fax (202) 833-9434; Web site http://www.rtca.org for directions. For additional details contact: Kelly O'Keefe, Tel: + 1 202 772-1873, e-mail: Kelly@accesspartnership.com

Note: Dress is Business Casual

SUPPLEMENTARY INFORMATION: Pursuant to section 10(a)(2) of the Federal Advisory Committee Act (Pub. L. 92-463, 5 U.S.C., Appendix 2), notice is hereby given for a Special Committee 215 meeting. The agenda will include:

December 10, 2008

Opening Plenary Session

• Greetings, Introductions, Administrative Remarks

• Review and Approval of Agenda for 11th Plenary

• Terms of Reference and PMC Chairman's Report—Status Review

• Review and Approval of 10th Meeting Summary

DO-262 Normative Appendix

• Status Update of Final Draft

• PMC Approval of Final Draft

DO-270 Normative Appendix

• Report from Drafting Group

• Approval of DO-270 Normative Appendix for Final Review and Comment (FRAC)

• Sub network Operational Approval—FAA Requirements for DO-270

December 11, 2008

Closing Plenary

• Any Other Business

• Review of Next Plenary Meeting Dates

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on November 12, 2008.
Edward Harris,
RTCA Advisory Committee.

[FR Doc. E8-27542 Filed 11-19-08; 8:45 am]

BILLING CODE 4910-13-P